DEPARTMENT OF HOMELAND SECURITY

U.S. Customs and Border Protection

Accreditation and Approval of Thionville Surveying Company, Inc., (Harahan, LA) as a Commercial Gauger and Laboratory

AGENCY: U.S. Customs and Border Protection, Department of Homeland Security.

ACTION: Notice of accreditation and approval of Thionville Surveying Company, Inc., (Harahan, LA), as a commercial gauger and laboratory.

SUMMARY: Notice is hereby given, pursuant to CBP regulations, that Thionville Surveying Company, Inc., (Harahan, LA) has been approved to gauge animal and vegetable oils and accredited to test certain animal and vegetable oils for customs purposes for the next four years as of July 13, 2021.

DATES: Thionville Surveying Company, Inc., (Harahan, LA) was approved and accredited as a commercial gauger and laboratory as of July 13, 2021. The next inspection date will be scheduled for July 2025.

FOR FURTHER INFORMATION CONTACT: Dr. Eugene Bondoc, Laboratories and Scientific Services Directorate, U.S. Customs and Border Protection, 1300 Pennsylvania Avenue NW, Suite 1501N, Washington, DC 20229, tel. 202-344-1060.

SUPPLEMENTARY INFORMATION: Notice is hereby given pursuant to 19 CFR 151.12 and 19 CFR 151.13, that Thionville Surveying Company, Inc., 5440 Pepsi Street, Harahan, LA 70123, has been approved to gauge animal and vegetable oils and accredited to test certain animal and vegetable oils for customs purposes, in accordance with the provisions of 19 CFR 151.12 and 19 CFR 151.13 as of July 13, 2021.¹

¹ As a result of the SARS-CoV-2 (COVID-19) pandemic, Laboratories and Scientific Services implemented a one-time quadrennial timeframe for reoccurring audits originally scheduled to take place in 2020, 2021, and 2022. This postponed the scheduled deadline for audits and the payment of reaccreditation or reapproval fees by one year, after which audits will return to a triennial schedule. See 19 U.S.C. 1499; Presidential Proclamation 9994, 85 FR 15337 (March 13, 2020); Executive Order 13924, 85 FR 31353 (May 19, 2020); and U.S. Customs & Border Protection, COVID-19 Laboratory and Gauger Postponement Letter (May 26, 2021), https://www.cbp.gov/document/guidance/covid-19-gauger-postponement-letter.

Thionville Surveying Company, Inc., (Harahan, LA) is approved for the following gauging procedures for animal and vegetable oils per the National Institute of Oilseed Products (NIOP) standards:

Method | Title
NIOP 5.10.5 | Weight Determination/Gauging.
ISO 5555 | Animal and vegetable fats and oils-Sampling.

Thionville Surveying Company, Inc., (Harahan, LA) is accredited for the following laboratory analysis procedures and methods for certain animal and vegetable oils set forth by the U.S. Customs and Border Protection Laboratory Methods (CBPL), the International Standards Organization (ISO), and the American Oil Chemists' Society (AOCS):

CBPL No. | Method | Title
15-02 | AOCS Ca 5a-40 | Free Fatty Acids in Crude and Refined Fats and Oils.
15-12 | AOCS Ce 1h-05 | Determination of cis-, trans-, Saturated, Monounsaturated and Polyunsaturated Fatty Acids in Vegetable or Non-Ruminant Animal Oils and Fats by Capillary GLC.
27-48 | ASTM D-4052 | Standard Test Method for Density, Relative Density, and API Gravity of Liquids by Digital Density Meter.
33-08 | USP 621 | Chromatography.

Anyone wishing to employ this entity to conduct laboratory analyses and gauger services should request and receive written assurances from the entity that it is accredited or approved by the U.S. Customs and Border Protection to conduct the specific test or gauger service requested. Alternatively, inquiries regarding the specific test or gauger service this entity is accredited or approved to perform may be directed to the U.S. Customs and Border Protection by calling (202) 344-1060. The inquiry may also be sent to CBPGaugersLabs@cbp.dhs.gov. Please reference the website listed below for a complete listing of CBP approved gaugers and accredited laboratories. http://www.cbp.gov/about/labs-scientific/commercial-gaugers-and-laboratories

James D. Sweet,
Laboratory Director, Houston, Laboratories and Scientific Services Directorate.

[FR Doc. 2023-20860 Filed 9-25-23; 8:45 am]

BILLING CODE 9111-14-P